DEPARTMENT OF ENERGY

Federal Energy Regulatory Commission

[Docket Nos. RP09-3-000; RP09-7-000; RP09-7-001]

Texas Gas Transmission LLC; Notice of Technical Conference

November 13, 2008.

Take notice that the Commission will convene a technical conference in the above-referenced proceedings on Tuesday, December 2, 2008, at 10 a.m. (EDT), in a room to be designated at the offices of the Federal Energy Regulatory Commission, 888 First Street, NE., Washington, DC 20426.

The Commission's October 31, 2008 Order ¹ directed that a technical conference be held to address the issues raised by Texas Gas Transmission LLC's (Texas Gas) October 1, 2008 tariff filings in (i) Docket No. RP09-3-000 to establish new Effective Fuel Retention Percentages and to modify its fuel tracking mechanism, and (ii) in Docket Nos. RP09-7-000 et al., to implement an experimental fuel savings sharing mechanism.

¹ Texas Gas Transmission LLC, 125 FERC ¶ 61,134 (2008).

Commission Staff and interested persons will have the opportunity to discuss all of the issues raised by Texas Gas's tariff filings. Specifically, Texas Gas should be prepared to address all the concerns raised in the protests, and if necessary, to provide additional technical, engineering and operational support for its proposals. Any party proposing alternatives to Texas Gas's proposals should also be prepared to similarly support its position.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Andrew Knudsen at (202) 502-6527 or e-mail Andrew.Knudsen@ferc.gov.

Kimberly D. Bose,
Secretary.

[FR Doc. E8-27411 Filed 11-18-08; 8:45 am]

BILLING CODE 6717-01-P